DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

SAMHSA/HRSA Collaboration to Link Health Care for the Homeless Programs and Community Mental Health Agencies—(New)—The Substance Abuse and Mental Health Services Administration (SAMHSA), Center for Mental Health Services (CMHS); the Health Resources and Services Administration (HRSA), Bureau of Primary Health Care (BPHC); and the Office of the Assistant Secretary for Planning and Evaluation (ASPE) plan to conduct a longitudinal, multi-site evaluation assessing their initiative to foster collaborations between Health Care for the Homeless programs (HCH) and community mental health agencies (CMHAs). In 12 designated communities, an HCH site and a CMHA site will collaborate to increase the availability of mental health and primary care services for persons with serious mental illness and co-occurring substance use disorders who are homeless. The evaluation of these collaborative efforts will advance knowledge on elements of the implementation process associated with establishment of a successful collaboration, such as partnering mechanisms, success of referral links, intensity of services, the effects of collaboration on client outcomes, and plans for sustain ability.

Data collection will be conducted over a 30-month period. In each community, both a process and an outcome evaluation will be conducted to address the following questions: How is the project being implemented? What are the identified collaboration mechanisms? What are the service/agency level outcomes? What are the system-level outcomes? What are the client-level outcomes? To what extent do the various collaboration strategies predict outcomes?

To reduce burden and increase uniformity across the study sites, a common case study protocol will be used to guide the evaluation. Information for the service/agency and system level evaluations will be collected by staff from the central Evaluation Center (EC) during annual site visits and through monthly activity logs. Common site visit protocols will dictate what data collection methods will be used. Site visitors will rely on focus groups and interviews to obtain information from project directors, local evaluators, project staff, and clients. Activity logs monitoring each community's efforts to implement collaboration strategies, will be completed by program administrators and submitted to the EC monthly. Key outcomes to be examined at the service/agency level through these data collection methods include increased availability of mental health, substance abuse, specialty care, housing and services; increased access to primary care, mental health, and substance abuse services; more comprehensive assessment of and services for individual needs; increased integrated delivery of services; and increased engagement and retention in services. System-level outcomes to be examined include increased cross-agency activity; increased mental health capacity at Hch sites; less redundancy in data collection; and enhanced screening for multi-dimensional issues.

The estimated response burden for this project is as follows:

Instrument | Number of respondents | Responses/respondent | Burden/response (hrs.) | Total burden hours
General Session Interviews | 84 | 3 | 1.5 | 378
Administrative Interviews | 24 | 3 | 1.5 | 72
Evaluator Interviews | 12 | 3 | 1.0 | 36
Line Staff Interviews | 48 | 3 | 2.0 | 288
Consumer Focus Groups | 252 | 1 | 1.0 | 252
Other Key Informants | 48 | 3 | 1.0 | 144
Monthly Activity Logs | 12 | 28 | 0.5 | 168
Total | 564 |  |  | 1,842
3-yr. Annual Average | 480 |  |  | 614

A total of approximately 6,500 program participants are expected to be recruited from the 12 sites. Each site will collect GPRA data on these participants using the CMHS GPRA Core Client Outcome measures approved by the Office of Management and Budget under control number 0930-0208, which cover such domains as drug and alcohol use, family and living conditions, education, employment, and income, crime and criminal justice status, and mental and physical health problems and treatment. To obtain information on client-level outcomes the central Evaluation Center will work with each site to develop methods for obtaining relevant material from the GPRA data. The Evaluation Center will provide training and technical assistance to all sites on data submission procedures.

Written comments and recommendations concerning the proposed information collection should be sent within 30 days of this notice to: Allison Herron Eydt, Human Resources and Housing Branch, Office of Management and Budget, New Executive Office Building, Room 10235, Washington, DC 20503.

Dated: April 17, 2003.
Richard Kopanda,
Executive Officer, SAMHSA.

[FR Doc. 03-10114 Filed 4-23-03; 8:45 am]

BILLING CODE 4162-20-P